DEPARTMENT OF TRANSPORTATION

Federal Aviation Administration

Advisory Circular (AC) 23-11A, 14 CFR Part 23 Type Certification of an Airplane Originally Certificated to Joint Aviation Regulations—Very Light Airplane (JAR-VLA) Standards

AGENCY: Federal Aviation Administration, DOT.

ACTION: Notice of issuance of advisory circular.

SUMMARY: This notice announces the issuance of Advisory Circular (AC) 23-11A, 14 CFR part 23 Type Certification of an Airplane Originally Certificated to Joint Aviation Regulations—Very Light Airplane (JAR-VLA) Standards. The AC sets forth an acceptable means, but not the only means, to show compliance to the subject part for type certification of certain small airplanes. This AC is applicable to an applicant with a Joint Aviation Regulations—Very Light Airplane (JAR-VLA) who applies for a normal or utility category type certificate or a type certificate of a special class airplane. The AC cancels AC 23-11.

DATES: Advisory Circular 23-11A was issued by the Manager of the Small Airplane Directorate on July 14, 2003.

How to Obtain Copies: A paper copy of AC 23-11A may be obtained by writing to the U.S. Department of Transportation, Subsequent Distribution Office, DOT Warehouse, SVC-121.23, Ardmore East Business Center, 3341Q 75th Avenue, Landover, MD 20785, telephone 301-322-5377, or by faxing your request to the warehouse at (301) 386-5394. The AC will also be available on the Internet at http://www.airweb.faa.gov/AC.

Issued in Kansas City, Missouri, on August 5, 2003.
Michael Gallagher,
Manager, Small Airplane Directorate, Aircraft Certification Service.

[FR Doc. 03-21318 Filed 8-19-03; 8:45 am]

BILLING CODE 4910-13-P